DEPARMTMENT OF HOMELAND SECURITY

Bureau of Customs and Border Protection

19 CFR Part 133

RIN 1505-AB51

Recordation of Copyrights and Enforcement Procedures To Prevent the Importation of Piratical Articles

Correction

In proposed rule document 04-22334 beginning on page 59562 in the issue of Tuesday, October 5, 2004, make the following correction:

On page 59562, in the third column, under the heading “DATES”, in the second and third lines, “November 4, 2005” should read “November 4, 2004”.

[FR Doc. C4-22334 Filed 10-12-04; 8:45 am]

BILLING CODE 1505-01-D